FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201251-002.

Agreement Name: Hapag-Lloyd/Maersk Line Slot Exchange Agreement.

Parties: Hapag-Lloyd AG and Maersk Line A/S.

Filing Party: Wayne Rohde; Cozen O'Connor.

Synopsis: The amendment revises Article 5.1 to reflect changes in the amount of space to be exchanged under the Agreement.

Proposed Effective Date: 7/26/2019.

Location: https://www2.fmc.gov/FMC.Agreements.Web/Public/AgreementHistory/10190.

Dated: June 14, 2019.
Rachel Dickon,
Secretary.

[FR Doc. 2019-13042 Filed 6-18-19; 8:45 am]

BILLING CODE 6731-AA-P